DEPARTMENT OF ENERGY

Federal Energy Regulatory Commission

Notice of Reservoir Drawdown and Soliciting Comments, Motions To Intervene, and Protests

August 24, 2000.

Take notice that the following hydroelectric application has been filed with the Commission and is available for public inspection:

a. Application Type: Request for approval of maintenance activities including reservoir drawdown and sediment removal from Interbay Reservoir during September and October 2000.

b. Project No.: 2079-041.

c. Date Filed: August 3, 2000.

d. Applicant: Placer County Water Agency.

e. Name of Project: Middle Fork American River.

f. Location: The project is located on the Middle Fork American and Rubicon Rivers, in Placer and El Dorado Counties, California. The project occupies lands of the Tahoe and Eldorado National Forests.

g. Filed Pursuant to: Section 12 of the Commission's Regulations.

h. Applicant Contact: Mr. Stephen J. Jones, Placer County Water Agency, P.O. Box 667, Foresthill, California 95631.

i. FERC Contact: Any questions on this notice should be addressed to Diana Shannon at 202-208-7774, or e-mail address diana.shannon@ferc.fed.us

j. Deadline for filing comments and or motions: September 20, 2000.

All documents (original and eight copies) should be filed with Mr. David P. Boeregers, Secretary, Federal Energy Regulatory Commission, 888 First Street, NE, Washington, DC 20426

Please reference the following number, P-2079-041, on any comments or motions filed.

k. Description of Proposal: The licensee requests approval to remove about 70,000 cubic yards of sediment from the small 7-acre Interbay Reservoir during September-October 2000. The sediment was deposited during high flows in January 1997. The licensee plans to maintain the required minimum flow during the maintenance work and will take necessary actions to minimize impacts to water quality. The licensee has consulted with the resource agencies, including the U.S. Forest Service and the Regional Water Quality Control Board, regarding the proposed maintenance work.

l. Location of the Application: A copy of the application is available for inspection and reproduction at the Commission's Public Reference Room, at 888 First Street, NE, Room 2A, Washington, DC 20426, or by calling 202-208-1371. The application may be viewed on-line at http:\\www.ferc.fed.us/online/rims.htm (call 202-208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 285.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-22110 Filed 8-29-00; 8:45 am]

BILLING CODE 6717-01-M